DEPARTMENT OF THE TREASURY

Submission for OMB Review; Comment Request

September 5, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 15, 2002 to be assured of consideration.

Bureau of Alcohol, Tobacco and Firearms (BATF)

OMB Number: 1512-0115.

Form Number: ATF F 5220.4.

Type of Review: Revision.

Title: Report—Export Warehouse Proprietor.

Description: Proprietors account for taxable articles on this report. ATF uses this information to ensure that Federal laws and regulations have been complied with and determined taxes have been paid.

Respondents: Business or other for-profit.

Estimated Number of Respondents: 123.

Estimated Burden Hours Per Respondent: 48 minutes.

Frequency of Response: Monthly.

Estimated Total Reporting Burden: 1,181 hours.

Clearance Officer: Jacqueline White (202) 927-8930, Bureau of Alcohol, Tobacco and Firearms, Room 3200, 650 Massachusetts Avenue, NW., Washington, DC 20226.

OMB Reviewer: Joseph F. Lackey, Jr., (202) 395-7316, Office of Management and Budget, Room 10235, New Executive Office Building, Washington, DC 20503.

Lois K. Holland,
Departmental Reports, Management Officer.

[FR Doc. 02-23307 Filed 9-12-02; 8:45 am]

BILLING CODE 4810-31-P